DEPARTMENT OF AGRICULTURE

Grain Inspection, Packers and Stockyards Administration

Designation for the Fargo, ND; Urbana, IL; Sandusky, MI; Davenport, IA; Enid, OK; Keokuk, IA; Marshall, MI; and Omaha, NE Areas

AGENCY: Grain Inspection, Packers and Stockyards Administration, USDA.

ACTION: Notice.

SUMMARY: GIPSA is announcing the designations of North Dakota Grain Inspection, Inc. (North Dakota); Champaign Danville Grain Inspection Departments, Inc. (Champaign); Detroit Grain Inspection Service, Inc. (Detroit); Eastern Iowa Grain Inspection and Weighing Service, Inc. (Eastern Iowa); Enid Grain Inspection Company, Inc. (Enid); Keokuk Grain Inspection Service (Keokuk); Michigan Grain Inspection Services, Inc. (Michigan); and Omaha Grain Inspection Service, Inc. (Omaha) to provide official services under the United States Grain Standards Act (USGSA), as amended.

DATES: Effective Dates: January 1, 2016 and April 1, 2016 (See table below).

ADDRESSES: Sharon Lathrop, Compliance Officer, USDA, GIPSA, FGIS, QACD, 10383 North Ambassador Drive, Kansas City, MO 64153.

FOR FURTHER INFORMATION CONTACT: Sharon Lathrop, 816-891-0415, Sharon.L.Lathrop@usda.gov or FGIS.QACD@usda.gov.

Read Applications: All applications and comments are available for public inspection at the office above during regular business hours (7 CFR 1.27(c)).

SUPPLEMENTARY INFORMATION: In the March 29, 2016, Federal Register (81 FR 17428), GIPSA requested applications for designation to provide official services in the geographic areas presently serviced by North Dakota, Champaign, Detroit, Eastern Iowa, Enid, Keokuk, Michigan, and Omaha. Applications were due by April 28, 2016.

The current official agencies: North Dakota, Champaign, Detroit, Eastern Iowa, Enid, Keokuk, Michigan, and Omaha were the only applicants for designation to provide official services in these areas. As a result, GIPSA did not ask for additional comments.

GIPSA evaluated the designation criteria in section 79(f) of the USGSA (7 U.S.C. 79(f)) and determined that North Dakota, Champaign, Detroit, Eastern Iowa, Enid, Keokuk, Michigan, and Omaha are qualified to provide official services in the geographic areas specified in the Federal Register on March 29, 2016. This designation to provide official services in the specified area of North Dakota is effective January 1, 2016, to December 31, 2020. This designation to provide services in the specified areas of Champaign, Detroit, Eastern Iowa, Enid, Keokuk, Michigan, and Omaha is effective April 1, 2016, to March 31, 2021.

Interested persons may obtain official services by contacting these agencies at the following telephone numbers:

Official agency | Headquarters location and telephone | Designation start | Designation end
North Dakota | Fargo, ND; 701-293-7420 | 1/1/2016 | 12/31/2020
Champaign | Urbana, IL; 217-344-9306 | 4/1/2016 | 3/31/2021
Detroit | Sandusky, MI; 810-404-3786 | 4/1/2016 | 3/31/2021
Eastern Iowa | Davenport, IA; 563-322-7149 | 4/1/2016 | 3/31/2021
Enid | Enid, OK; 580-233-1121 | 4/1/2016 | 3/31/2021
Keokuk | Keokuk, IA; 319-524-6482 | 4/1/2016 | 3/31/2021
Michigan | Marshall, MI; 269-781-2711 | 4/1/2016 | 3/31/2021
Omaha | Omaha, NE; 402-341-6739 | 4/1/2016 | 3/31/2021

Section 79(f) of the USGSA authorizes the Secretary to designate a qualified applicant to provide official services in a specified area after determining that the applicant is better able than any other applicant to provide such official services (7 U.S.C. 79(f)).

Larry Mitchell,
Administrator, Grain Inspection, Packers and Stockyards Administration.

[FR Doc. 2016-20164 Filed 8-23-16; 8:45 am]

BILLING CODE 3410-KD-P